DEPARTMENT OF ENERGY

Federal Energy Regulatory Commission

Notice

April 23, 2003.

The Following Notice of Meeting is published pursuant to section 3(a) of the Government in the Sunshine Act (Pub. L. No. 94-409), 5 U.S.C. 552B:

Agency Holding Meeting: Federal Energy Regulatory Commission.

Date and Time: April 30, 2003, 10 a.m.

Place: Room 2C, 888 First Street, NE., Washington, DC 20426.

Status: Open.

Matters to be Considered: Agenda

Note.— Items listed on the Agenda may be deleted without further notice.

FOR MORE INFORMATION CONTACT: Magalie R. Salas, Secretary, Telephone (202) 502-8400, for a Recording Listing Items Stricken from or Added to the Meeting, Call (202) 502-8627.

This is a list of matters to be considered by the commission. It does not include a listing of all papers relevant to the items on the agenda; however, all public documents may be examined in the Reference and Information Center.

826th—Meeting April 30, 2003; Regular Meeting 10 a.m.

Administrative Agenda

A-1.

Docket# AD02-1, 000, Agency Administrative Matters

A-2.

Docket# AD02-7, 000, Customer Matters, Reliability, Security and Market Operations

A-3.

Docket# AD03-8, 000, Regional Market Monitor State of the Market Presentations

Markets, Tariffs and Rates—Electric

E-1.

Omitted

E-2.

Omitted

E-3.

Omitted

E-4.

DOCKET# EL98-6, 001, Old Dominion Electric Cooperative v. Public Service Electric and Gas Company

E-5.

Docket# ER02-2560, 001, Louisville Gas and Electric Company and Kentucky Utilities Company

E-6.

Docket# PA03-1, 000, America Electric Power Co.

Other#s PA03-2, 000, Aquila Marketing Service

PA03-3, 000, Coral Energy Resources, LP

PA03-4, 000, CMS Marketing Services & Trading

PA03-5, 000, Dynegy, Inc.

PA03-6, 000, Duke Energy Trading and Marketing, LLC,

PA03-7, 000, El Paso Merchant Energy, LP

PA03-8, 000, Mirant Americas Energy Marketing, LP

PA03-9, 000, Reliant Resources, Inc.

PA03-10, 000, Sempra Energy Trading Corp.

PA03-11, 000, Williams Energy Marketing & Trading Company

E-7.

Docket# ER03-583, 000, Entergy Services, Inc., and EWO Marketing LP

Other#s ER03-681 000 Entergy Services, Inc., and Entergy Power, Inc.

ER03-682, 000, Entergy Services, Inc., and Entergy Power, Inc.

ER03-682, 001, Entergy Services, Inc., and Entergy Power, Inc.

E-8.

Docket# EC03-53, 000, Ameren Energy Generating Company and Union Electric Company, d/b/a AmerenUE

E-9.

Docket# ER03-452 000 Conjunction LLC

E-10.

Docket# ER01-2099, 002, Neptune Regional Transmission System, LLC

E-11.

Docket# ER03-218, 001, California Independent System Operator Corporation

Other#s ER03-219, 001, California Independent System Operator Corporation

EC03-81, 000, California Independent System Operator Corporation

E-12.

Omitted

E-13.

Omitted

E-14.

Docket# OA97-261, 004 Pennsylvania-New Jersey-Maryland Interconnection

Other#s EC96-28, 005, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

EC96-28, 006, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

EC96-29, 005, PECO Energy Company

EC96-29, 006, PECO Energy Company

EL96-69, 005, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

EL96-69, 006, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

ER96-2516, 005, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

ER96-2516, 006, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company

ER96-2668, 005, PECO Energy Company

ER96-2668, 006, PECO Energy Company

EC97-38, 003, Pennsylvania Electric Company, Pennsylvania Power & Light Company, Potomac Electric Power Company, Public Service Electric and Gas Company, Atlantic City Electric Company, Baltimore Gas and Electric Company, Delmarva Power & Light Company, Jersey Central Power & Light Company, and Metropolitan Edison Company

EC97-38, 004, Pennsylvania Electric Company, Pennsylvania Power & Light Company, Potomac Electric Power Company, Public Service Electric and Gas Company, Atlantic City Electric Company, Baltimore Gas and Electric Company, Delmarva Power & Light Company, Jersey Central Power & Light Company, and Metropolitan Edison Company

EL97-44, 003, Pennsylvania-New Jersey-Maryland Interconnection Restructuring

EL97-44, 004, Pennsylvania-New Jersey-Maryland Interconnection Restructuring

OA97-261, 005, Pennsylvania-New Jersey-Maryland Interconnection

OA97-678, 003, PJM Interconnection, LLC

OA97-678, 004, PJM Interconnection, LLC

ER97-1082, 006, Pennsylvania-New Jersey-Maryland Interconnection Interconnection

ER97-3189, 032, Atlantic City Electric Company, Baltimore Gas and Electric Company, Delmarva Power & Light Company, Jersey Central Power & Light Company, and Metropolitan Edison Company

ER97-3189, 033, Atlantic City Electric Company, Baltimore Gas and Electric Company, Delmarva Power & Light Company, Jersey Central Power & Light Company, and Metropolitan Edison Company

ER97-3273, 003, Pennsylvania Electric Company, Pennsylvania Power & Light Company, Service Electric and Gas Company, and Pennsylvania-New Jersey-Maryland Interconnection Restructuring

ER97-3273, 004, Pennsylvania Electric Company, Pennsylvania Power & Light Company, Potomac Electric Power Company, Public Service Electric and Gas Company, and Pennsylvania-New Jersey-Maryland Interconnection Restructuring

E-15.

Docket# ER01-313, 000, California Independent System Operator Corporation

Other#s ER01-313 001, California Independent System Operator Corporation

ER01-424, 000, Pacific Gas and Electric Company

ER01-424, 001, Pacific Gas and Electric Company

E-16.

Docket# ER03-574, 000, Midwest Independent Transmission System Operator, Inc.

E-17.

Omitted

E-18.

Docket# ER03-580, 000, Midwest Independent Transmission System Operator, Inc., and GridAmerica Companies

EL03-119, 000, Midwest Independent Transmission System Operator, Inc., and GridAmerica Companies

E-19.

Docket# ER03-606, 000, Wisconsin Public Service Corporation

E-20.

Docket# ER03-355, 000, Southern Company Services, Inc.

Other#s ER03-355, 001, Southern Company Services, Inc.

E-21.

Docket# ER03-601, 000, San Diego Gas & Electric Company

E-22.

Docket# ER01-2201, 000, Entergy Services, Inc.

Other#s EL02-46, 000, Generator Coalition v. Entergy Services, Inc.

E-23.

Omitted

E-24.

Omitted

E-25.

Omitted

E-26.

Docket# ER03-159, 000, Virginia Electric and Power Company

Other#s ER03-159, 001, Virginia Electric and Power Company ,

ER03-159, 002, Virginia Electric and Power Company

E-27.

Omitted

E-28.

Docket# ER03-600, 000, Cross-Sound Cable Company, LLC

E-29.

Omitted

E-30.

Docket# ER02-290, 002, Midwest Independent Transmission System Operator, Inc.

E-31.

Docket# EC03-14, 002, Ameren Services Company, American Transmission Systems, Incorporated, Northern Indiana Public Service Company, GridAmerica LLC and GridAmerica Holdings, Inc.

E-32.

Omitted

E-33.

Omitted

E-34.

Omitted

E-35.

Omitted

E-36.

Omitted

E-37.

Omitted

E-38.

Docket# EL03-35, 002, Midwest Independent Transmission System Operator, Inc.

E-39.

Docket# ER01-1807, 005, Carolina Power & Light Company and Florida Power Corporation

Other#s ER01-1807, 006, Carolina Power & Light Company and Florida Power Corporation

ER01-2020, 002, Carolina Power & Light Company and Florida Power Corporation

ER01-2020, 003, Carolina Power & Light Company and Florida Power Corporation

E-40.

Docket# RT01-87, 005. Midwest Independent Transmission System Operator, Inc.

Other#s RT01-87, 006, Midwest Independent Transmission System Operator, Inc.

ER02-106, 001, Midwest Independent Transmission System Operator, Inc.

ER02-108, 002, Midwest Independent Transmission System Operator, Inc.

ER02-108, 004, Midwest Independent Transmission System Operator, Inc.

E-41.

Omitted

E-42.

Omitted

E-43.

Omitted

E-44.

Omitted

E-45.

Docket# RT02-1, 004, Arizona Public Service Company, El Paso Electric Company, Public Service Company of New Mexico and Tucson Electric Power Company

Other#s EL02-9, 002, WestConnect RTO, LLC

E-46.

Omitted

E-47.

Docket# EC03-14, 001, Ameren Services Company, First Energy Corp., Northern Indiana Public Service Company, National Grid USA, and Midwest Independent Transmission System Operator, Inc.

Other#s ER02-2233, 002, Ameren Services Company, First Energy Corp., Northern Indiana Public Service Company, National Grid USA, and Midwest Independent Transmission System Operator, Inc.

ER02-2233, 003, Ameren Services Company, First Energy Corp., Northern Indiana Public Service Company, National Grid USA, and Midwest Independent Transmission System Operator, Inc.

E-48.

Omitted

E-49.

Docket# EL03-25, 001, NSTAR Electric & Gas Corporation, et al. v. New England Power Pool

Other#s EL03-25, 002, NSTAR Electric & Gas Corporation, et al. v. New England Power Pool

EL03-25, 003, NSTAR Electric & Gas Corporation, et al. v. New England Power Pool

E-50.

Omitted

E-51.

Omitted

E-52.

Omitted

E-53.

Omitted

E-54.

Docket# EL03-57, 000, Midwest Independent Transmission System Operator, Inc.

E-55.

Docket# EL02-77, 000, Puget Sound Energy, Inc.

E-56.

Docket# EL02-112, 000, FirstEnergy Solutions Corp., v. PJM Interconnection, L.L.C.

Other#s EL02-120, 000, Edison Mission Energy v. PJM Interconnection, L.L.C.

E-57.

Omitted

E-58.

Docket# EL03-52, 000, Public Service Company of New Mexico v. Arizona Public Service Company

E-59.

Docket# EL03-117, 000, Investigation of Certain Enron-Affiliated QF's

Other#s QF86-972, 006, Cogen Technologies NJ Venture

QF89-251, 008, Las Vegas Cogeneration Limited Partnership

QF90-65, 008, Cogen Technologies Linden Venture, L.P.

QF90-87, 008, Camden Cogen, L.P.

QF90-203, 004, Saguaro Power Company

EL03-47, 000, Investigation of Certain Enron-Affiliated QF's

E-60.

Omitted

E-61.

Docket# ER03-590, 000, New England Power Pool

E-62.

Docket# EL03-114, 000, PG&E National Energy Group, PG&E Generating, USGen New England, Inc., PG&E Energy Trading-Power, L.P. and United Illuminating Company v. New England Power Pool

Miscellaneous Agenda

M-1.

Docket# RM03-7, 000, Delegations of Authority

Markets, Tariffs and Rates—Gas

G-1.

Docket# OR02-11, 000, Rocky Mountain Pipeline System LLC

G-2.

Docket# RP03-324, 000, Southern Star Central Gas Pipeline, Inc.

Other#s RP03-324, 001, Southern Star Central Gas Pipeline, Inc.

G-3.

Docket# RP03-202, 000, Enbridge Pipelines (KPC)

G-4.

Docket# RP03-297, 000, MIGC, Inc.

G-5.

Docket# RP03-335, 000, Enbridge Offshore Pipelines (UTOS) L.L.C.

G-6.

Omitted

G-7.

Docket# RP03-315, 000, Kern River Gas Transmission Company

G-8.

Docket# RP03-323, 000, Williston Basin Interstate Pipeline Company

G-9.

Omitted

G-10.

Docket# RP03-47, 000, Gulf South Pipeline Company, LP

G-11.

Docket# RP03-76, 000, Southern Natural Gas Company

G-12.

Omitted

G-13.

Omitted

G-14.

Docket# PR03-5, 000, Washington Gas Light Company

G-15.

Docket# RP00-329, 002, Great Lakes Gas Transmission Limited Partnership

Other#s RP00-329, 003, Great Lakes Gas Transmission Limited Partnership

G-16.

Docket# RP00-403, 002, Northern Border Pipeline Company

Other#s RP00-403, 003, Northern Border Pipeline Company

RP01-388, 003, Northern Border Pipeline Company

G-17.

Docket# IS03-218, 000, Olympic Pipe Line Company

G-18.

Docket# RP03-213, 000, Gulf South Pipeline Company, LP

G-19.

Omitted

G-20.

Docket# RP03-308, 000, CenterPoint Energy Gas Transmission Company

G-21.

Omitted

G-22.

Omitted

G-23.

Omitted

G-24.

Docket# RP02-562, 002, Mississippi River Transmission Corporation

G-25.

Omitted

G-26.

Docket# RP00-410, 004, CenterPoint Energy-Mississippi River Transmission Corporation

Other#s RP00-410, 005, CenterPoint Energy-Mississippi River Transmission Corporation

RP01-8, 004, CenterPoint Energy-Mississippi River Transmission Corporation

RP01-8, 005, CenterPoint Energy-Mississippi River Transmission Corporation

G-27.

Docket# RP03-70, 001, PG&E Gas Transmission, Northwest Corporation

Other#s RP03-70, 000, PG&E Gas Transmission, Northwest Corporation

G-28.

Omitted

G-29.

Omitted

G-30.

Docket# RP99-324, 004, Gulf South Pipeline Company, LP.

Other#s RP99-324, 005, Gulf South Pipeline Company, LP.

G-31.

Omitted

G-32.

Omitted

G-33.

Omitted

G-34.

Omitted

G-35.

Omitted

G-36.

Omitted

G-37.

Docket# RP03-64, 000, Gulf South Pipeline Company, LP

G-38.

Omitted

G-39.

Docket# RP00-535, 005, Texas Eastern Transmission, LP

G-40.

Docket# RP00-533, 005, Algonquin Gas Transmission Company

G-41.

Omitted

G-42.

Docket# RP03-329, 000, ANR Pipeline Company

G-43.

Docket# RP03-299, 001, Dominion Cove Point LNG, LP

G-44.

Docket# CP02-142, 002, Columbia Gas Transmission Company

Other#s CP01-260, 002, Columbia Gas Transmission Company

Energy Projects—Hydro

H-1.

Omitted

H-2.

Omitted

H-3.

Docket# P-2738, 053, New York State Electric & Gas Corporation

H-4.

Docket# P-4632, 029, Clifton Power Corporation

Energy Projects—Certificates

C-1.

Docket# CP01-409, 000, Tractebel Calypso Pipeline, LLC

Other#s CP01-409, 001, Tractebel Calypso Pipeline, LLC

CP01-409, 002, Tractebel Calypso Pipeline, LLC

CP01-410, 000, Tractebel Calypso Pipeline, LLC

CP01-410, 001, Tractebel Calypso Pipeline, LLC

CP01-410, 002, Tractebel Calypso Pipeline, LLC

CP01-411, 000, Tractebel Calypso Pipeline, LLC

CP01-411, 001, Tractebel Calypso Pipeline, LLC

CP01-411, 002, Tractebel Calypso Pipeline, LLC

CP01-444, 000, Tractebel Calypso Pipeline, LLC

CP01-444, 001, Tractebel Calypso Pipeline, LLC

CP01-444, 002, Tractebel Calypso Pipeline, LLC

C-2.

Docket# CP02-141, 001, Transcontinental Gas Pipe Line Corporation

C-3.

Docket# CP02-4, 002, Northwest Pipeline Corporation

C-4.

Docket# CP01-438, 001, Northwest Pipeline Corporation

C-5.

Docket# CP03-18, 000, City of Duluth Public Works & Utilities Department

C-6.

Omitted

C-7.

Docket# CP98-131, 005, Vector Pipeline L.P.

C-8.

Docket# CP01-416, 001, Sierra Production Company

Magalie R. Salas,
Secretary.

[FR Doc. 03-10585 Filed 4-24-03; 3:59 pm]

BILLING CODE 6717-01-P